NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 4, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

Application Details

1. Applicant

Permit Application: 2014-011

Michael Studinger,

NASA Goddard Flight Center,

Cryospheric Sciences Lab,

Greenbelt MD.

Activity for Which Permit Is Requested

ASPA Entry; NASA is mapping the ice in Antarctica using instruments mounted on airplanes and will continue to map the ice from satellites. The instruments must be calibrated by flying an airplane over ice free ground. The McMurdo Dry Valleys are the largest ice- and vegetation-free area on Earth, and these factors, combined with their proximity to the world's largest ice sheet, their relative surface stability and their range of surface slopes make them an ideal site for the calibration of satellite laser altimeters. NASA has selected a calibration site comprised mainly of the junction of portions of the Wright, Victoria, McKelvey and Barwick Valleys. This is the widest area of the Dry Valleys along the direction of travel of the spacecraft's ground track, and it contains a range of surface characteristics (mainly slope) making it very suitable for calibrating the laser altimeters that will be on NASA's ICESat-2.

The desired flight lines cross small portions of the Barwick Valley Antarctic Specially Protected Area, and the management prohibits overflight at altitudes less than 2500 ft. NASA is seeking a permit to fly through ASPA 123 six times at an altitude of 1500 ft. or higher. While flying over the ASPA, NASA will be using airplane mounted instruments to collect laser, radar, gravity, and magnetic data and aerial photography. There is no plan to land the aircraft in the ASPA and data collection would not disturb the ground surface in the ASPA.

Location

ASPA 123 Barwick and Balham Valleys

Dates

October 26, 2013 to November 30, 2013

Nadene G. Kennedy,
Polar Coordination Specialist, Division of Polar Programs.

[FR Doc. 2013-21444 Filed 9-3-13; 8:45 am]

BILLING CODE 7555-01-P